DEPARTMENT OF JUSTICE

National Institute of Justice

[OJP (NIJ) Docket No. 1802]

Special Technical Committee for Criminal Justice Practice for Digital Multimedia Evidence

AGENCY: National Institute of Justice, Office of Justice Programs, Justice.

ACTION: Notice.

SUMMARY: The National Institute of Justice (NIJ) is seeking qualified individuals to serve on a Special Technical Committee (STC) for Criminal Justice Practice for Digital Multimedia Evidence. The purpose of the STC will be to update and revise the NIJ guide, Electronic Crime Scene Investigation: A Guide for First Responders, Second Edition (NCJ 219941), and develop other relevant guides and standards related to digital multimedia evidence practice for criminal justice purposes.

DATES: Individuals wishing to submit an application to the National Institute of Justice must do so by 5 p.m. eastern time December 20, 2022, as instructed below.

FOR FURTHER INFORMATION CONTACT: Martin Novak, Technology and Standards Division, Office of Research, Evaluation and Technology, National Institute of Justice, 810 7th Street NW, Washington, DC 20531; telephone number: (202) 598-7795; email address: martin.novak@usdoj.gov.

SUPPLEMENTARY INFORMATION:

How to Respond and What to Include: To apply to serve on the Special Technical Committee for Criminal Justice Practice for Digital Multimedia Evidence, please email a resume to the point of contact listed above by the deadline listed above. Please put “Special Technical Committee for Criminal Justice Practice for Digital Multimedia Evidence” in the subject line. Application materials must be submitted electronically. Hardcopy application materials will not be accepted. There is no page limit or limit to the amount of information that an interested applicant may submit to demonstrate his, her, or their qualifications. More information on the individuals sought for the STC is provided below. All materials submitted will be treated confidentially and discreetly and may be shared with U.S. Government staff or U.S. Government contractors for evaluation purposes related to selection for the STC only.

NIJ (pursuant to its authorities at 34 U.S.C. 10122 and 6 U.S.C. 161-165) is seeking qualified individuals to serve on a Special Technical Committee for Criminal Justice Practice for Digital Multimedia Evidence. The purpose of the STC will be to update and revise the NIJ guide, Electronic Crime Scene Investigation: A Guide for First Responders, Second Edition (https://www.ojp.gov/pdffiles1/nij/219941.pdf), published in April 2008. NIJ developed and published the Electronic Crime Scene Investigation: A Guide for First Responders, Second Edition to assist State and local law enforcement and other first responders who may be responsible for preserving an electronic crime scene and for recognizing, collecting, and safeguarding digital evidence. The STC may also inform the development of other relevant guides and standards related to digital multimedia evidence practices for criminal justice purposes. NIJ guides and standards are consensus-based and designed to articulate the criminal justice end user community's operational requirements and best practices.

NIJ anticipates that the STC for Criminal Justice Practice for Digital Multimedia Evidence will be comprised of approximately 25 individuals who are crime scene investigators, digital forensic experts, computer forensic examiners, crime laboratory personnel, first responders, prosecutors, and other subject matter experts from federal, state, and local criminal justice agencies or other relevant technical or governmental organizations. Individuals will be selected to achieve the best possible balance of knowledge and expertise.

Submitted materials must clearly demonstrate the applicant's qualifications to serve on the STC. Law enforcement practitioners must be active sworn personnel or civilian employees of a law enforcement agency or crime laboratory. Candidates should have experience with the identification, collection, and preservation of digital multimedia evidence at crime scenes or through conducting search warrants; analysis of digital multimedia evidence for investigative purpose or for criminal proceedings; presentation of digital multimedia evidence in court; or some combination of the above. Individuals operating at all levels of a law enforcement agency are encouraged to apply, however sworn officers at the level of lieutenant and above are preferred. Nonsworn personnel should have at least ten years of experience of job duties relevant to the purpose of the STC.

NIJ anticipates that the STC will meet virtually several times over the course of approximately 18 to 24 months starting sometime in late 2022 or early 2023, with each meeting lasting one to two days. If conditions permit, the STC may meet at least once in person in the Washington, DC The majority of the work will be conducted by web conference, telephone, and email. Participation time will not be reimbursed; however, should travel be permitted, it is expected that travel and per diem expenses for travel originating outside the local Washington, DC area will be reimbursed. Any potential reimbursements are subject to, inter alia, the availability of appropriated funds, and to any modifications or additional requirements that may be imposed by law.

Nancy La Vigne,
Director, National Institute of Justice.

[FR Doc. 2022-20414 Filed 9-20-22; 8:45 am]

BILLING CODE 4410-18-P